DEPARTMENT OF JUSTICE

Antitrust Division

Notice Pursuant to the National Cooperative Research and Production Act of 1993—Central Station Alarm Association

Notice is hereby given that, on September 20, 2004, pursuant to section 6(a) of the National Cooperative Research and Production Act of 1993, 15 U.S.C. 4301 et seq. (“the Act”), Central Station Alarm Association (“CSAA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Central Station Alarm Association, Vienna, VA. The nature and scope of CSAA's standards development activities are: The development of American National Standards specific to industry practice and conduct for the monitoring of electronic security systems. These standards shall apply to all operations of security system monitoring, and to the monitoring of all types of electronic systems which provide as their primary function the protection and safeguard of life, property, or information. These standards shall include standardization terms and definitions, specifications, requirements, procedures, and methods which apply to monitoring facilities, personnel, operators, and situation handling.

Dorothy B. Fountain,
Deputy Director of Operations, Antitrust Division.

[FR Doc. 05-142 Filed 1-4-05; 8:45 am]

BILLING CODE 4410-11-M